DEPARTMENT OF LABOR

Mine Safety and Health Administration

Petitions for Modification

AGENCY: Mine Safety and Health Administration (MSHA), Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: Comments on the petitions must be postmarked and received by the Office of Standards, Regulations, and Variances on or before March 26, 2007.

ADDRESSES: You may submit your comments, identified by “docket number” on the subject line, by any of the following methods:

1. E-Mail: Standards-Petitions@dol.gov.

2. Telefax: 1-202-693-9441.

3. Hand-Delivery or Regular Mail: Submit comments to the Mine Safety and Health Administration (MSHA), Office of Standards, Regulations, and Variances, 1100 Wilson Boulevard, Room 2349, Arlington, Virginia 22209, Attention: Patricia W. Silvey, Director, Office of Standards, Regulations, and Variances.

We will consider only comments postmarked by the U.S. Postal Service or proof of delivery from another delivery service such as UPS or Federal Express on or before the deadline for comments. If you submit your comments by hand-delivery, you are required to check in at the receptionist desk on the 21st floor.

Copies of the petitions and comments will be available during normal business hours at the address listed above.

FOR FURTHER INFORMATION CONTACT: Ria Moore Benedict, Deputy Director, Office of Standards, Regulations, and Variances at 202-693-9443 (Voice), benedict.ria@dol.gov (E-mail), or 202-693-9441 (Telefax), or you can contact Barbara Barron at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that an alternative method of achieving the result of such standard exists which will at all times guarantee no less than the same measure of protection afforded the miners of such mine by such standard, or that the application of such standard to such mine will result in a diminution of safety to the miners in such mine. In addition, the regulations at 30 CFR 44.10 and 44.11 establish the requirements and procedures for filing petitions for modifications.

II. Petitions for Modification

Docket Number: M-2006-085-C

Petitioner: Drummond Company, Inc., P.O. Box 10246, Birmingham, Alabama 35202.

Mine: Shoal Creek Mine, (MSHA I.D. No. 01-02901), located in Jefferson County, Alabama.

Regulation Affected: 75.1101-1(b) (Deluge-type water spray systems).

Modification Request: The petitioner requests a modification of the existing standard to permit the use of deluge-type water spray systems installed at belt conveyor drives in lieu of using blow off dust covers. The petitioner proposes to have a person who is trained in the testing procedure specific to the deluge-type water spray fire suppression systems conduct examinations and tests on a weekly basis as follows: (1) Conduct a visual examination of each of the deluge-type water spray fire suppression systems; (2) conduct a functional test of the deluge-type water spray fire suppression system and observe its performance; and (3) record the results of the examination and test in a book maintained on the surface which would be retained and made available to the authorized representative of the Secretary. The petitioner states that if any malfunction or clogged nozzle is detected as a result of the weekly examination or functional test, corrections will be made. The petitioner further states that within 60 days of the final order, a revised 30 CFR Part 48 training plan will be submitted to the District Manager that includes initial and refresher training to comply with the order. The petitioner asserts that the proposed alternative method will at all times guarantee no less than the same measure of protection to all miners at the Shoal Creek Mine as would be provided by the mandatory safety standards and will satisfy the criteria of the standard.

Docket Number: M-2006-086-C

Petitioner: Mystic, LLC, P.O. Box 228, Stanaford, West Virginia 25927.

Mine: Candice 2 Mine, (MSHA I.D. No. 46-08429), located in Boone County, West Virginia.

Regulation Affected: 30 CFR 75.1700 (Oil and gas wells).

Modification Request: The petitioner requests a modification of the existing standard to permit plugging of all oil and gas wells encountered during normal operations. The petitioner requests MSHA's approval of this modification for all oil and gas wells it intends to plug in the Candice 2 Mine. The petitioner states that in lieu of establishing and maintaining barriers around oil and gas wells, the Lower Winifrede coal seam will be sealed from surrounding strata at the wells to be plugged. The petitioner proposes the following techniques: (1) Cleaning out and preparing oil and gas wells; (2) plugging oil and gas wells to the surface; (3) plugging oil and gas wells using the vent pipe method; and (4) plugging oil and gas wells for use as degasification boreholes. Persons may review a complete description of petitioner's alternative methods and procedures at the MSHA address listed in the notice. The petitioner asserts that the proposed alternative method will provide the same degree of safety as the existing standard.

Docket Number: M-2006-087-C

Petitioner: Energy West Mining Company, P.O. Box 310, Huntington, Utah 84528.

Mine: Deer Creek Mine, (MSHA I.D. No. 42-00121), located in Emery County, Utah, and Bridger Underground Coal Mine, (MSHA I.D. No. 48-01646), located in Sweetwater County, Wyoming.

Regulation Affected: 30 CFR 75.1909(b) (Non-permissible diesel-powered equipment; design and performance requirements).

Modification Request: The petitioner requests that its previously granted petition for modification, docket number M-1999-108-C be amended to permit the purchase of another grader for the Deer Creek Mine with the potential to use the grader at the Bridger Underground Coal Mine. The petitioner would like to: (1) Retain the previous petition with its current requirements; (2) add the new grader to the petition; and (3) delete the reference to the Trail Mountain Mine and replace it with the Bridger Underground Coal Mine. The petitioner states that with the addition of the new grader, the petition would read as follows: (1) The Proposed Decision and Order (PDO) is limited in application to the Getman Model No. G600U and Getman RDG-1504C diesel graders used at the Deer Creek Mine and the Bridger Underground Coal Mine; (2) The maximum speed on the Getman Model No. G600U and Getman RDG-1504C will be limited to 10 mph by: (a) Permanently blocking out the gear(s) or any gear ratio(s) that provide higher speeds. The device shall limit the vehicle speed in both forward and reverse; (b) using transmission(s) and differential(s) geared in accordance with the equipment manufacturer which limits the maximum speed to 10 mph. The petitioner further proposes the following prior to implementing the alternative method: (1) The Getman Model RDG-1504C diesel grader would be inspected by MSHA to determine compliance with the terms and conditions of the PDO; (2) grader operators would be trained to recognize appropriate levels of speed for different road conditions and slopes; (3) grader operators would be trained to lower the moldboard (grader blade) to provide additional stopping capability in emergencies; and (4) grader operators would be trained to recognize the transmission gear blocking device and its proper application and requirements, and will comply with all other applicable requirements of the Federal Mine Safety and Health Act of 1977 and the applicable requirements of 30 CFR Parts 75 and 77. The petitioner asserts that the proposed alternative method would provide at least the same measure of protection as the existing standard.

Docket Number: M-2006-088-C

Petitioner: Cumberland River Coal Company, Pardee Complex, P.O. Drawer 109, Appalachia, Virginia 24216.

Mine: Band Mill Mine, (MSHA I.D. No. 44-06816), located in Wise County, Virginia. .

Regulation Affected: 30 CFR 75.364(b)(1) (Weekly examination).

Modification Request: The petitioner requests a modification of the existing standard to permit the use of three monitoring locations to check and measure air flow through certain sections of the mine due to deteriorating roof conditions. The petitioner proposes to establish monitoring locations (ML 61, 62, and 63) to check and measure air flow through the 450 feet portion of 1 North Submain. Additionally, two monitoring stations would be established (ML 64 and 65) in the faces of 4 Left Panel and 3 West Submain. The petitioner states that future plans would include having a production unit back in both these areas. The petitioner proposes to maintain 2,000 cfm through each of the ML's. Persons may review a complete description of petitioner's alternative method at the MSHA address listed in this notice.

Docket Number: M-2006-089-C

Petitioner: The Ohio Valley Coal Company, 56854 Pleasant Ridge Road, Alledonia, Ohio 43902.

Mine: Powhatan No. 6 Mine, (MSHA I.D. No. 33-01159), located in Monroe County, Ohio.

Regulation Affected: 30 CFR 75.507 (Power connection points).

Modification Request: The petitioner requests a modification of the existing standard to permit the use of low and medium voltage, three-phase, alternating-current submersible pump(s) installed in return and bleeder entries, ventilation shafts, and boreholes in the Powhatan No. 6 Mine. The petitioner further states that protection will be provided by a suitable circuit interrupting device to protect against under-voltage, grounded phase, short-circuit and overload. Persons may review a complete description of petitioner's alternative method at the MSHA address listed in this notice. The petitioner asserts that the proposed alternative method would provide at least the same measure of protection as the existing standard.

Docket Number: M-2006-016-M

Petitioner: Phelps Dodge Morenci, Inc., 4521 U.S. Highway 191, Morenci, Arizona 85540.

Mine: Morenci Mine, (MSHA I.D. No. 02-00024), located in Greenlee County, Arizona.

Regulation Affected: 30 CFR 56.6309(b) (Fuel oil requirements for ANFO).

Modification Request: The petitioner requests a modification of the existing standard to permit the use of used petroleum-based, lubrication oil from diesel equipment at the Bagdad Mine for blending with diesel fuel and conventional prills to create ammonium nitrate-fuel oil (ANFO). Persons may review a complete description of petitioner's alternative method at the MSHA address listed in this notice. The petitioner asserts that the proposed alternative method would provide at least the same measure of protection as the existing standard.

Dated: February 16, 2007.
Patricia W. Silvey,
Director, Office of Standards, Regulations, and Variances.

[FR Doc. E7-3121 Filed 2-22-07; 8:45 am]

BILLING CODE 4510-43-P